DEPARTMENT OF LABOR

Mine Safety and Health Administration

Petitions for Modification

The following parties have filed petitions to modify the application of existing safety standards under section 101(c) of the Federal Mine Safety and Health Act of 1977.

1. Clintwood Elkhorn Mining Company

[Docket No. M-2003-018-C]

Clintwood Elkhorn Mining Company, PO Box 196, Hurley, Virginia 24620 has filed a petition to modify the application of 30 CFR 77.214(a) (Refuse piles; general) to its Clintwood Elkhorn III Mine (MSHA I.D. No. 44-03010) located in Buchanan County, Virginia. The petitioner requests a modification of the existing standard to allow construction of a refuse fill to cover abandoned mine openings in the Blair seam at the Clintwood Elkhorn Mining Company, Cedar Branch Refuse area, MSHA Site I.D. #1211VA50120-82. The petitioner asserts that the proposed alternative method would provide at least the same measure of protection as the existing standard.

2. Consol of Pennsylvania Coal Company

[Docket No. M-2003-024-C]

Consol of Pennsylvania Coal Company, CONSOL Energy, Inc., 1800 Washington Road, Pittsburgh, Pennsylvania 15241 has filed a petition to modify the application of 30 CFR 77.516 (Electric wiring and equipment; installation and maintenance) to its Enlow Fork Mine (MSHA I.D. No. 36-07416) located in Greene County, Pennsylvania. The petitioner proposes to use an electric heater in a thermal flow reversal reactor to oxidize the methane in mine ventilation air. The petitioner asserts that the proposed alternative method would provide at least the same measure of protection as the existing standard.

3. Speed Mining, Inc.

[Docket No. M-2003-025-C]

Speed Mining, Inc., PO Box 1083, Beckley, West Virginia 25802 has filed a petition to modify the application of 30 CFR 75.1700 (Oil and gas wells) to its American Eagle Mine (MSHA I.D. No. 46-05437) located in Kanawha County, West Virginia. The petitioner proposes to drill out the oil and/or gas well as specified in its previous petition, docket number M-2001-041-C, and to pump cement to 50 feet above the eagle seam. The rest of the borehole will be left open to utilize degasification of methane out of the longwall gob, after the longwall has intersected the well. The petitioner asserts that the proposed alternative method would provide at least the same measure of protection as the existing standard.

4. Dickenson-Russell Coal Company, LLC

[Docket No. M-2003-026-C]

Dickenson-Russell Coal Company, PO Box 573, Abingdon, Virginia 24212-0573 has filed a petition to modify the application of 30 CFR 77.215-2(b) (Refuse piles; reporting requirements) to its Roaring Fork #3 Mine (MSHA I.D. No. 44-06975) located in Dickenson County, Virginia. The petitioner requests a modification of the existing standard and review and approval of a report for the Roaring Fork #3 Scalped Rock Disposal Area, MSHA Site I.D. #1211-VA5-0203-01. The petitioner proposes to expand the Roaring Fork #3 Scalped Rock Disposal to place scalped rock over existing Upper Banner Mine workings. The petitioner states that all organic and topsoil material will be cleared from the proposed fill area prior to placement of scalped rock. The petitioner has listed specific procedures that would be followed prior to placement of scalped rock over mine workings. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before June 23, 2003. Copies of these petitions are available for inspection at that address.

Dated at Arlington, Virginia this 17th day of April 2003.
Marvin W. Nichols, Jr.,
Director, Office of Standards, Regulations, and Variances.

[FR Doc. 03-9968 Filed 4-22-03; 8:45 am]

BILLING CODE 4510-43-P